OFFICE OF THE UNITED STATES TRADE REPRESENTATIVE

[Docket No. USTR-2008-0036]

Additional Delay in Modification of Action Taken in Connection with WTO Dispute Settlement Proceedings on the European Communities' Ban on Imports of U.S. Beef and Beef Products

AGENCY: Office of the United States Trade Representative.

ACTION: Notice and modification of action.

SUMMARY: On January 15, 2009, the United States Trade Representative (“Trade Representative”) announced modifications (“January 15 modifications”) to the action taken in July 1999 in connection with the World Trade Organization (“WTO”) authorization of the United States in the EC-Beef Hormones dispute to suspend concessions and related obligations with respect to the European Communities (“EC”). See 74 FR 4265 (Jan. 23, 2009). The January 15 modifications initially had an effective date of March 23, 2009. The Trade Representative subsequently delayed the effective date of the additional duties imposed under the January 15 modifications until April 23, 2009, and then to May 9, 2009. The effective date of the removal of duties under the January 15 modifications remained March 23, 2009. See 74 FR 11613 (March 18, 2009); 74 FR 12402 (March 24, 2009); 74 FR 19263 (April 28, 2009). On May 6, 2009, the United States and the European Commission announced an “agreement in principle” regarding the dispute. The first phase of the agreement provides that the United States will not apply retaliatory duties greater than those currently in effect. In order to allow time to complete the procedures under the Trade Act of 1974, as amended (Trade Act), that are needed to prevent the application of the additional duties under the January 15 modifications, the Trade Representative has decided to delay the effective date of the additional duties from May 9, 2009 to August 15, 2009.

DATES: Effective Date: The additional duties under the January 15 modifications shall be effective with respect to products that are entered, or withdrawn from warehouse, for consumption on or after August 15, 2009. However, assuming the agreement in principle enters into force, USTR intends to take further steps under the Trade Act to prevent the application of the additional duties.

FOR FURTHER INFORMATION CONTACT: Roger Wentzel, Director, Agricultural Affairs, (202) 395-6127 or David Weiner, Director for the European Union, (202) 395-4620 for questions concerning the EC-Beef Hormones dispute; or William Busis, Associate General Counsel and Chair of the Section 301 Committee, (202) 395-3150, for questions concerning procedures under Section 301.

SUPPLEMENTARY INFORMATION: For background concerning the EC-Beef Hormones WTO dispute; the January 15 modifications; and the prior delays in the effective date of the modifications, see 74 FR 4265 (Jan. 23, 2009), 74 FR 11613 (March 18, 2009), 74 FR 12402 (March 24, 2009), and 74 FR 19263 (April 28, 2009).

Pursuant to Section 305 of the Trade Act of 1974, the Trade Representative has determined that a further delay in implementation of the January 15 modifications would be desirable to obtain a satisfactory solution with respect to the EC's ban on U.S. beef. Accordingly, the Trade Representative has decided to delay the effective date of the additional duties imposed under the January 15 modifications from May 9, 2009 to August 15, 2009. The actions to be delayed are: (i) The imposition of increased duties on additional products, (ii) the application to products of additional EC member States of the increased duties on currently covered products, and (iii) the increase in the level of duties on one of the products that is being maintained on the product list. These are the same actions that were previously delayed until May 9, 2009.

The increased duties under the January 15 modifications are set out in Annex II of the notice published at 74 FR 12402 (March 24, 2009), as modified by the notice published at 74 FR 19263 (April 28, 2009). In order to delay the effective date of the increased duties until August 15, 2009, the Trade Representative has decided that the modifications to the Harmonized Tariff Schedule of the United States that are contained in Parts A and B of Annex II shall be effective with respect to articles entered, or withdrawn from warehouse for consumption, on or after August 15, 2009. Any merchandise covered under Part B of Annex II of the notice published at 74 FR 12402 that is admitted to a U.S. foreign-trade zone on or after August 15, 2009 must be admitted in “privileged foreign status” as defined in 19 CFR 146.41, unless further steps are taken under the Trade Act with respect to these products. Questions concerning customs matters may be directed to Renee Chovanec, International Coordination, Office of International Trade, U.S. Customs and Border Protection, 202-863-6384.

William Busis,
Chair, Section 301 Committee.

[FR Doc. E9-11173 Filed 5-12-09; 8:45 am]

BILLING CODE 3190-W9-P